DEPARTMENT OF VETERANS AFFAIRS

[OMB Control No. 2900-0011]

Agency Information Collection (Application for Reinstatement (Insurance Lapsed More Than 6 Months), and Application for Reinstatement (Non Medical—Comparative Health Statement)) Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 26, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0011” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0011.”

SUPPLEMENTARY INFORMATION:

Titles:

a. Application for Reinstatement (Insurance Lapsed More than 6 Months), Government Life Insurance and/or Total Disability Income Provision, VA Form 29-352.

b. Application for Reinstatement (Non Medical—Comparative Health Statement), Government Life Insurance, VA Form 29-353.

OMB Control Number: 2900-0011.

Type of Review: Extension of a currently approved.

Abstract: VA Forms 29-352 and 29-353 are used to apply for reinstatement of insurance and/or Total Disability Income Provision that has lapsed for more than six months. VA uses the information collected to establish the applicant's eligibility for reinstatement.

An agency may not conduct or sponsor, and a person is not required to respond to a collection of information unless it displays a currently valid OMB control number. The Federal Register Notice with a 60-day comment period soliciting comments on this collection of information was published on May 20, 2013, at page 29436.

Estimated Annual Burden:

a. VA Form 29-352—750 hours.

b. VA Form 29-353—375 hours.

Estimated Average Burden per Respondent:

a. VA Form 29-352—30 minutes.

b. VA Form 29-353—15 minutes.

Frequency of Response: On occasion.

Estimated Number of Respondents:

a. VA Form 29-352—1,500.

b. VA Form 29-353—1,500.

Dated: August 22, 2013.
By direction of the Secretary.
Crystal Rennie,
VA Clearance Officer, U.S. Department of Veterans Affairs.

[FR Doc. 2013-20879 Filed 8-26-13; 8:45 am]

BILLING CODE 8320-01-P